DEPARTMENT OF HEALTH AND HUMAN SERVICES

National Institutes of Health

Draft Report on Carcinogens Monograph on Cobalt and Certain Cobalt Compounds; Availability of Document; Request for Comments; Notice of Meeting

SUMMARY: The notice announces a meeting to peer review the Draft Report on Carcinogens (RoC) Monograph on Cobalt and Certain Cobalt Compounds. This document was prepared by the Office of the Report on Carcinogens (ORoC), Division of the National Toxicology Program (DNTP), National Institute of Environmental Health Sciences (NIEHS). The peer-review meeting is open to the public. Registration is requested for both public attendance and oral comment and required to access the webcast. Information about the meeting and registration is available at http://ntp.niehs.nih.gov/go/38853.

DATES:

Meeting: July 22, 2015, 9:00 a.m. Eastern Daylight Time (EDT) to adjournment.

Document Availability: Draft monograph will be available by June 5, 2015, at http://ntp.niehs.nih.gov/go/38853.

Written Public Comments Submissions: Deadline is July 8, 2015. Registration for Attendance and/or Oral Comments: Deadline is July 15, 2015. Registration to view the meeting via the webcast is required.

ADDRESSES: Meeting Location: Rodbell Auditorium, Rall Building, NIEHS, 111 T.W. Alexander Drive, Research Triangle Park, NC 27709.

Agency Meeting Web page: The draft monographs, draft agenda, registration, and other meeting materials will be posted at http://ntp.niehs.nih.gov/go/38853.

Webcast: The URL for viewing the webcast will be provided to those who register.

FOR FURTHER INFORMATION CONTACT: Dr. Lori White, NTP Designated Federal Official, Office of Liaison, Policy and Review, DNTP, NIEHS, P.O. Box 12233, MD K2-03, Research Triangle Park, NC 27709. Phone: (919) 541-9834, Fax: (301) 480-3272, Email: whiteld@niehs.nih.gov. Hand Delivery/Courier: 530 Davis Drive, Room 2136, Morrisville, NC 27560.

SUPPLEMENTARY INFORMATION:

Background: The RoC is a congressionally mandated, science-based, public health report that identifies agents, substances, mixtures, or exposures (collectively called “substances”) in our environment that pose a cancer hazard for people in the United States. The NTP prepares the RoC on behalf of the Secretary of Health and Human Services.

The NTP follows an established, four-part process for preparation of the RoC (http://ntp.niehs.nih.gov/go/rocprocess). A RoC monograph is prepared for each candidate substance selected for review for the RoC. A draft RoC monograph consists of (1) a cancer evaluation component that reviews all information that may bear on a listing decision, assesses its quality and sufficiency for reaching a listing decision, applies the RoC listing criteria to the relevant scientific information, and recommends a listing status for the candidate substance in the RoC and (2) a substance profile that contains the NTP's preliminary listing recommendation and a summary of the scientific evidence considered key to reaching that recommendation.

Cobalt was selected as a candidate substance following solicitation of public comment, review by the NTP Board of Scientific Counselors on April 16—18, 2014, and approved by the NTP Director (http://ntp.niehs.nih.gov/go/9741). This meeting is planned for peer review of the Draft RoC Monograph on Cobalt and Certain Cobalt Compounds.

Cobalt is a naturally occurring metallic element that exists in different forms. It occurs in the environment in ores where it is combined with other elements such as arsenic and sulfur. Pure cobalt is a grey metal and there are numerous inorganic and organic cobalt compounds, with varying valence states and water solubility. The RoC evaluation includes cobalt metal and certain cobalt compounds—both water soluble and poorly soluble compounds—that can release cobalt ions in biological fluids. One cobalt compound that releases cobalt ions, cobalt sulfate, is listed in the 13th RoC as reasonably anticipated to be a human carcinogen (http://ntp.niehs.nih.gov/go/roc13). The RoC evaluation does not include cobalt forms that have confounding exposures, such as cobalt carbides, alloys and radioactive forms of cobalt or cobalt compounds. It also does not include Vitamin B12, which does not release cobalt ions in vivo. Cobalt-tungsten carbide: powders and hard metals is listed in the 13th RoC as reasonably anticipated to be a human carcinogen and is not included in this evaluation.

Major uses of cobalt include the production of cemented carbides, diamond tools, and superalloys and other alloys used in a variety of commercial, industrial, medical and military applications. Some cobalt compounds are used as pigments for coloring glass, ceramics, and pottery. A more recent use of cobalt is in green energy (e.g., rechargeable batteries for electric vehicles and consumer electronics). People are exposed to cobalt in workplaces that process cobalt metals and produce cobalt alloys; exposure to cobalt in their everyday lives may also result from implanted medical devices, consumption of food and drinking water and, to a lesser extent, from breathing contaminated air. Additional information about the review of cobalt and certain cobalt compounds for the RoC is available at http://ntp.niehs.nih.gov/go/730697.

Meeting and Registration: This meeting is open to the public with time set aside for oral public comment. The public may attend the meeting at NIEHS, where attendance is limited only by the space available, or view the webcast. Registration is required to view the webcast; the URL for the webcast will be provided in the email confirming registration. Individuals who plan to provide oral comments (see below) are encouraged to register online at the meeting Web site (http://ntp.niehs.nih.gov/go/38853) by July 15, 2015, to facilitate planning for the meeting.

The preliminary agenda and draft monograph should be posted on the NTP Web site (http://ntp.niehs.nih.gov/go/38853) by June 5, 2015. Additional information will be posted when available or may be requested in hardcopy, see FOR FURTHER INFORMATION CONTACT. Following the meeting, a report of the peer review will be prepared and made available on the NTP Web site. Registered attendees are encouraged to access the meeting Web page to stay abreast of the most current information regarding the meeting.

Visitor and security information is available at http://www.niehs.nih.gov/about/visiting/index.cfm. Individuals with disabilities who need accommodation to participate in this event should contact Ms. Robbin Guy at phone: (919) 541-4363 or email: guyr2@niehs.nih.gov. TTY users should contact the Federal TTY Relay Service at (800) 877-8339. Requests should be made at least five business days in advance of the event.

Request for Comments: The NTP invites written and oral public comments on the draft monograph. The deadline for submission of written comments is July 8, 2015, to enable review by the peer-review panel and NTP staff prior to the meeting. Registration to provide oral comments is by July 15, 2015, at http://ntp.niehs.nih.gov/go/38853. Public comments and any other correspondence on the draft monographs should be sent to the FOR FURTHER INFORMATION CONTACT. Persons submitting written comments should include their name, affiliation, mailing address, phone, email, and sponsoring organization (if any) with the document. Written comments received in response to this notice will be posted on the NTP Web site, and the submitter will be identified by name, affiliation, and/or sponsoring organization.

Public comment at this meeting is welcome, with time set aside for the presentation of oral comments on the draft monograph. In addition to in-person oral comments at the meeting at the NIEHS, public comments can be presented by teleconference line. There will be 50 lines for this call; availability will be on a first-come, first-served basis. The lines will be open from 9:00 a.m. until adjournment on July 22, 2015, and oral comments will be received only during the formal public comment period indicated on the preliminary agenda. Each organization (sponsoring organization or affiliation) is allowed one time slot. At least 7 minutes will be allotted to each speaker, and if time permits, may be extended to 10 minutes at the discretion of the chair.

Persons wishing to make an oral presentation are asked to register online at http://ntp.niehs.nih.gov/go/38853 by July 15, 2015, and if possible, to send a copy of their slides and/or statement or talking points at that time. Written statements can supplement and may expand the oral presentation. Registration for in-person oral comments will also be available at the meeting, although time allowed for presentation by on-site registrants may be less than that for registered speakers and will be determined by the number of speakers who register on-site.

Background Information on the RoC: Published biennially, each edition of the RoC is cumulative and consists of substances newly reviewed in addition to those listed in previous editions. The 13th RoC, the latest edition, was published on October 2, 2014 (available at http://ntp.niehs.nih.gov/go/roc13). The 14th RoC is under development. For each listed substance, the RoC contains a substance profile, which provides information on: cancer studies that support the listing—including those in humans, animals, and studies on possible mechanisms of action—information about potential sources of exposure to humans, and current Federal regulations to limit exposures.

Background Information on NTP Peer-Review Panels: NTP panels are technical, scientific advisory bodies established on an “as needed” basis to provide independent scientific peer review and advise the NTP on agents of public health concern, new/revised toxicological test methods, or other issues. These panels help ensure transparent, unbiased, and scientifically rigorous input to the program for its use in making credible decisions about human hazard, setting research and testing priorities, and providing information to regulatory agencies about alternative methods for toxicity screening. The NTP welcomes nominations of scientific experts for upcoming panels. Scientists interested in serving on an NTP panel should provide a current curriculum vita to the FOR FURTHER INFORMATION CONTACT. The authority for NTP panels is provided by 42 U.S.C. 217a; section 222 of the Public Health Service (PHS) Act, as amended. The panel is governed by the Federal Advisory Committee Act, as amended (5 U.S.C. Appendix 2), which sets forth standards for the formation and use of advisory committees.

Dated: May 6, 2015.
John R. Bucher,
Associate Director, National Toxicology Program.

[FR Doc. 2015-11355 Filed 5-11-15; 8:45 am]

BILLING CODE 4140-01-P